DEPARTMENT OF TRANSPORTATION

Federal Aviation Administration

14 CFR Part 39

[Docket No. FAA-2005-20882; Directorate Identifier 2004-NM-241-AD; Amendment 39-14192; AD 2005-15-03]

RIN 2120-AA64

Airworthiness Directives; McDonnell Douglas Model DC-10-10, DC-10-10F, DC-10-15, DC-10-30, DC-10-30F (KC-10A and KDC-10), DC-10-40, DC-10-40F, MD-10-10F, MD-10-30F, MD-11, and MD-11F Airplanes

AGENCY: Federal Aviation Administration (FAA), Department of Transportation (DOT).

ACTION: Final rule.

SUMMARY: The FAA is adopting a new airworthiness directive (AD) for certain McDonnell Douglas airplanes identified above. This AD requires repetitive functional tests for noisy or improper operation of the exterior emergency control handle assemblies of the mid, overwing, and aft passenger doors, and corrective actions if necessary. This AD also provides for optional terminating action for the repetitive tests. This AD is prompted by a report that the exterior emergency control mechanism handles were inoperative on a McDonnell Douglas Model MD-11 airplane. We are issuing this AD to prevent failure of the passenger doors to operate properly in an emergency condition, which could delay an emergency evacuation and possibly result in injury to passengers and flightcrew.

DATES: Effective August 25, 2005.

The Director of the Federal Register approved the incorporation by reference of certain publications listed in the AD as of August 25, 2005.

ADDRESSES: You may examine the AD docket on the Internet at http://dms.dot.gov or in person at the Docket Management Facility, U.S. Department of Transportation, 400 Seventh Street, SW., Nassif Building, Room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to McDonnell Douglas Model DC-10-10, DC-10-10F, DC-10-15, DC-10-30, DC-10-30F (KC-10A and KDC-10), DC-10-40, DC-10-40F, MD-10-10F, MD-10-30F, MD-11, and MD-11F airplanes. That NPRM was published in the Federal Register on April 7, 2005 (70 FR 17618). That NPRM proposed to require repetitive functional tests for noisy or improper operation of the exterior emergency control handle assemblies of the mid, overwing, and aft passenger doors, and corrective actions if necessary. That NPRM also proposed to provide for optional terminating action for the repetitive tests.

Comments

We provided the public the opportunity to participate in the development of this AD. We received no comments on the NPRM or on the determination of the cost to the public.

Changes to This AD

We have changed the manufacturer name on the service bulletin citations in this AD from McDonnell Douglas to Boeing to reflect current guidelines established by the Office of the Federal Register for material incorporated by reference.

We have revised paragraph (f) of the final rule to include airplane model information for each of the service bulletins that was inadvertently left out of paragraph (f) of the proposed AD. It is necessary to identify which service bulletin affects which airplanes to eliminate any possible confusion.

We have made certain editorial changes to the proposed AD. These changes are minor in nature and do not have any effect on the technical content or proposed cost to the public of the final rule.

Conclusion

We have carefully reviewed the available data and determined that air safety and the public interest require adopting the AD as proposed, except as discussed under “Changes to this AD.”

Costs of Compliance

There are about 633 airplanes of the affected design in the worldwide fleet. This AD will affect about 218 airplanes of U.S. registry. The following table provides the estimated costs, at an average labor rate of $65 per work hour, for U.S. operators to comply with this AD.

Test and Modification Costs
Action | Work hours | Parts cost | Cost per airplane | Fleet cost
Functional test | 1 | N/A | $65 per test cycle | $14,170, per test cycle.
Replace bearings | 6 | $825 | $1,215 per door, if required | N/A.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-15-03 McDonnell Douglas: Amendment 39-14192. Docket No. FAA-2005-20882; Directorate Identifier 2004-NM-241-AD.

Effective Date

(a) This AD becomes effective August 25, 2005.

Affected ADs

(b) None.

Applicability: (c) This AD applies to the airplanes identified in Table 1 of this AD; certificated in any category.

Table 1.—Applicability
McDonnell Douglas Airplane model— | As identified in—
DC-10-10, DC-10-10F, DC-10-15, DC-10-30, DC-10-30F (KC-10A and KDC-10), DC-10-40, DC-10-40F, MD-10-10F, and MD-10-30F airplanes | Boeing Service Bulletin DC10-52-219, Revision 1, dated September 3, 2004.
MD-11 and MD-11F airplanes | Boeing Service Bulletin MD11-52-044, Revision 1, dated September 3, 2004.

Unsafe Condition

(d) This AD was prompted by a report indicating that the exterior emergency control mechanism handles of the mid, overwing and aft passenger doors were inoperative on a McDonnell Douglas Model MD-11 airplane. We are issuing this AD to prevent failure of the passenger doors to operate properly in an emergency condition, which could delay an emergency evacuation and possibly result in injury to passengers and flightcrew.

Compliance: (e) You are responsible for having the actions required by this AD performed within the compliance times specified, unless the actions have already been done.

Service Bulletin Reference

(f) The term “service bulletin,” as used in this AD, means the Accomplishment Instructions of Boeing Service Bulletin MD11-52-044, Revision 1 (for Model MD-11 and MD-11F airplanes), and Service Bulletin DC10-52-219, Revision 1 (for Model DC-10-10, DC-10-10F, DC-10-15, DC-10-30, DC-10-30F (KC-10A and KDC-10), DC-10-40, DC-10-40F, MD-10-10F, and MD-10-30F airplanes); both dated September 3, 2004; as applicable.

Functional Test

(g) Within 6,000 flight hours or 18 months after the effective date of this AD, whichever occurs later, perform a functional test of the exterior emergency control handle assemblies of the mid, overwing, and aft passenger doors; by doing all actions specified in the applicable service bulletin, except as provided by paragraph (i) of this AD.

(1) If the functional test reveals no noisy operation or binding: Repeat the functional test at intervals not to exceed 6,000 flight hours or 18 months, whichever occurs later, until the terminating action of paragraph (h) of this AD has been accomplished.

(2) If any functional test required by this AD reveals noisy operation or binding: Prior to further flight, replace the steel bearings with bearings made from corrosion-resistant material, in accordance with the applicable service bulletin.

Optional Terminating Action

(h) Accomplishment of the actions required by paragraph (g)(2) of this AD constitutes terminating action for the repetitive tests required by paragraph (g)(1) of this AD only for the modified doors.

Inoperable Doors

(i) Any mid, overwing, or aft passenger door that has been fastened shut and rendered inoperable according to an approved airplane freighter configuration is not subject to the requirements of this AD.

Alternative Methods of Compliance (AMOCs)

(j) The Manager, Los Angeles Aircraft Certification Office (ACO), FAA, has the authority to approve AMOCs for this AD, if requested in accordance with the procedures found in 14 CFR 39.19.

Material Incorporated by Reference

(k) You must use Boeing Service Bulletin DC10-52-219, Revision 1, dated September 3, 2004; or Boeing Service Bulletin MD11-52-044, Revision 1, dated September 3, 2004; as applicable, to perform the actions that are required by this AD, unless the AD specifies otherwise. The Director of the Federal Register approved the incorporation by reference of these documents in accordance with 5 U.S.C. 552(a) and 1 CFR part 51. Contact Boeing Commercial Airplanes, Long Beach Division, 3855 Lakewood Boulevard, Long Beach, California 90846, Attention: Data and Service Management, Dept. C1-L5A (D800-0024), for copies of this service information. You may review copies at the Docket Management Facility, U.S. Department of Transportation, 400 Seventh Street SW., Room PL-401, Nassif Building, Washington, DC; on the internet at http://dms.dot.gov; or at the National Archives and Records Administration (NARA). For information on the availability of this material at the NARA, call (202) 741-6030, or go to http://www.archives.gov/federal_register/code_of_federal_regulations/ibr_locations.html.

Issued in Renton, Washington, on July 8, 2005.
Ali Bahrami,
Manager, Transport Airplane Directorate, Aircraft Certification Service.

[FR Doc. 05-14088 Filed 7-20-05; 8:45 am]

BILLING CODE 4910-13-P